DEPARTMENT OF TRANSPORTATION

Federal Aviation Administration

14 CFR Part 39

[Docket No. FAA-2005-21357; Directorate Identifier 2005-CE-29-AD; Amendment 39-14136; AD 2005-12-20]

RIN 2120-AA64

Airworthiness Directives; The Lancair Company Model LC41-550FG Airplanes

AGENCY: Federal Aviation Administration (FAA), DOT.

ACTION: Final rule; correction

SUMMARY: This document makes a correction to Airworthiness Directive (AD) 2005-12-20, which was published in the Federal Register on June 20, 2005 (70 FR 35370), and applies to certain The Lancair Company (Lancair) Model LC41-550FG airplanes. We incorrectly referenced the affected airplane model as LC41-550F in the applicability section. The correct airplane model is LC41-550FG. This action corrects the regulatory text.

DATES: The effective date of this AD remains June 21, 2005.

FOR FURTHER INFORMATION CONTACT: Mr. Jeffrey Morfitt, Program Manager, FAA, Seattle Aircraft Certification Office (ACO), 1601 Lind Avenue, SW., Renton, Washington 98055-4065; telephone: (425) 917-6405; facsimile: (425) 917-6590.

SUPPLEMENTARY INFORMATION:

Discussion

On June 10, 2005, FAA issued AD 2005-12-20, Amendment 39-14136 (70 FR 35370, June 20, 2005), which applies to certain The Lancair Company (Lancair) Model LC41-550FG airplanes.

We incorrectly referenced the affected airplane model as LC41-550F. The correct airplane model is LC41-550FG. This action corrects the regulatory text.

This AD requires both visual and dye penetrant inspections of the elevator torque tube assembly for cracks. If a crack is found, this AD requires replacement with a modified assembly that incorporates a steel doubler. This AD also requires replacement of the modified elevator torque tube assembly every 300 hours time-in-service or 18 months (whichever occurs first).

Need for the Correction

This correction is needed to ensure that the affected airplane model is correct and to eliminate misunderstanding in the field.

Correction of Publication

Accordingly, the publication of June 20, 2005 (70 FR 35370), of Amendment 39-14136; AD 2005-12-20, which was the subject of FR Doc. 05-11880, is corrected as follows:

§ 39.13 [Corrected]

On page 35371, in section 39.13 [Amended], in paragraph (c), replace Model LC41-550F with Model LC41-550FG.

Action is taken herein to correct this reference in AD 2005-12-20 and to add this AD correction to section 39.13 of the Federal Aviation Regulations (14 CFR 39.13).

The effective date remains June 21, 2005.

Issued in Kansas City, Missouri, on June 20, 2005.
Kim Smith,
Acting Manager, Small Airplane Directorate, Aircraft Certification Service.

[FR Doc. 05-12676 Filed 6-27-05; 8:45 am]

BILLING CODE 4910-13-P